DEPARTMENT OF THE INTERIOR

National Park Service

Notice of Inventory Completion: Public Museum of West Michigan, Grand Rapids, MI

AGENCY: National Park Service, Interior.

ACTION: Notice.

Notice is here given in accordance with the Native American Graves Protection and Repatriation Act (NAGPRA), 25 U.S.C. 3003, of the completion of an inventory of human remains and associated funerary objects in the control of the Public Museum of West Michigan (Grand Rapids Public Museum), Grand Rapids, MI. The human remains and associated funerary objects were removed from Allegan, Berrien, Cass, Grand Traverse, Kalamazoo, Kent, Montcalm, Ottawa, St. Joseph, and Wayne Counties, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

A detailed assessment of the human remains and associated funerary objects was made by Public Museum of West Michigan officials in consultation with the Bay Mills Indian Community, Michigan; Citizen Potawatomi Nation, Oklahoma; Forest County Potawatomi Community, Wisconsin; Grand Traverse Band of Ottawa and Chippewa Indians, Michigan; Hannahville Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Nottawaseppi Huron Band of the Potawatomi, Michigan (formerly the Huron Potawatomi, Inc.); Ottawa Tribe of Oklahoma; Pokagon Band of Potawatomi Indians, Michigan and Indiana; Prairie Band of Potawatomi Nation, Kansas; Red Lake Band of Chippewa Indians, Minnesota; Saginaw Chippewa Indian Tribe of Michigan; Sac & Fox Nation, Oklahoma; and Sault Ste. Marie Tribe of Chippewa Indians of Michigan. In addition, the museum also consulted with the following non-federally recognized Indian groups: Burt Lake Band of Ottawa & Chippewa and the Grand River Bands of Ottawa.

In 1956, human remains representing a minimum of four individuals were removed from an unknown site near Saugatuck, Allegan County, MI. The human remains and associated funerary objects were excavated by the museum with the assistance of Dr. E.F. Greenman. No known individuals were identified. The 12 associated funerary objects are 5 shell beads, 1 flint spear, 2 lots of red ochre, 1 shell bracelet, 1 lot of bird bone, 1 flint flake, and 1 projectile point fragment.

At an unknown date, human remains representing a minimum of three individuals were removed from an unknown site in Allegan County, MI. At an unknown date, the “Hibellink Estate” acquired the human remains. At an unknown date, Harvey Bouknegt acquired the human remains from the “Hibellink Estate.” At an unknown date, Ruth Herrick acquired the human remains from Harvey Bouknegt. In 1974, the museum acquired the human remains from Ruth Herrick through a bequest. No known individuals were identified. No associated funerary objects are present.

At an unknown date, human remains representing a minimum of three individuals were removed from the Niles area, Berrien County, MI. In 1890-1892, E.H. Crane acquired the human remains. In 1917, the museum purchased the human remains from the E.H. Crane estate. No known individuals were identified. No associated funerary objects are present.

In 1879, human remains representing a minimum of four individuals were removed from Walter Mounds 1 & 2 (20CS31), Cass County, MI. At an unknown date, E.H. Crane acquired the human remains and associated funerary objects. In 1917, the museum purchased the human remains and associated funerary objects from the E.H. Crane estate. No known individuals were identified. The 33 associated funerary objects are 1 Busycon shell dipper, 16 lots of bone awls and fragments, 1 grinding stone, 1 stone dish, 3 fired clay balls, 5 pottery shards, 1 boatstone, 1 drilled bear tooth, 2 lots of polished bone, 1 pottery vessel, and 1 lot of turtle carapace fragments.

In 1879, human remains representing a minimum of one individual were removed from Merrit Mound 5 (20CS31), Cass County, MI. At an unknown date, E.H. Crane acquired the human remains and associated funerary objects. In 1917, the museum purchased the human remains and associated funerary objects from the E.H. Crane estate. No known individuals were identified. The 32 associated funerary objects are 2 pottery vessels, 1 polished sandstone fragment, 5 projectile points, 1 drilled talon, 1 lot of pottery shards, 8 individual pottery shards, 1 lot of mica fragments, 1 lot of flint flakes, 1 copper nugget, 1 vial of pyrite, 4 vials of sand, 2 vials of red ochre, 1 metal tin containing red ochre, 1 vial of lavender pigment, and 2 vials of yellow ochre.

In 1879, human remains representing a minimum of two individuals were removed from Kibler Mound #12 (20CS6), Cass County, MI. At an unknown date, E.H. Crane acquired the human remains and associated funerary objects. In 1917, the museum purchased the human remains and associated funerary objects from the E.H. Crane estate. No known individuals were identified. The 27 associated funerary objects are 1 slate gorget, 1 lot of wood fragments, 1 lot of fired clay balls, 4 lots of flint flakes, 1 mica sheet, 2 projectile point fragments, 1 metal tin containing pyrite, 3 projectile points, 1 flint biface, 6 pottery shards, 1 graphite cobble, 1 sandstone abrader, 1 animal bone fragment, 1 lot of bone awl fragments, 1 mussel shell, and 1 sample of clay with animal bones.

At an unknown date, human remains representing a minimum of three individuals were removed from an unknown site in Grand Traverse County, MI. At an unknown date, E.H. Crane acquired the human remains and associated funerary objects. In 1917, the museum purchased the human remains and associated funerary objects from the E.H. Crane estate. No known individuals were identified. The three associated funerary objects are one shell, one antler fragment, and one flint scraper.

At an unknown date, human remains representing a minimum of one individual were removed from an unknown site in the Kalamazoo area, Kalamazoo County, MI. At an unknown date, Ruth Herrick acquired the human remains. In 1974, the human remains were donated to the Grand Rapids Public Museum from Ruth Herrick through a bequest. No known individual was identified. No associated funerary objects are present.

In 1964, human remains representing a minimum of three individuals were removed from the Myers Lake Site (20KT185), Kent County, MI, by John Michell. The human remains and associated funerary object were inadvertently discovered by John Michell while excavating a basement. In 1964, the human remains were donated by John Michell to the museum. No known individuals were identified. The one associated funerary object is a pottery vessel.

At an unknown date in the early 1960s, human remains representing a minimum of two individuals were removed from the Hidden Hills site (20KT166), Kent County, MI, after being inadvertently discovered during construction for a subdivision by property owner Gar-Mar Inc. In 1968, Gar-Mar Inc. donated the human remains and associated funerary object to the museum. No known individuals were identified. The one associated funerary object is a nearly complete pottery vessel.

In 1962, human remains representing a minimum of two individuals were removed from the Plaster Creek site, Kent County, MI. The human remains were donated to the museum by Chris Hesse. These remains were found by children, and were reportedly eroding into Plaster Creek. No known individuals were identified. No associated funerary objects are present.

In 1962-1964, human remains representing a minimum of 48 individuals were removed from Norton Mounds (20KT1), Kent County, MI. This site was excavated by staff from the University of Michigan in cooperation with the Grand Rapids Public Museum. The collection is extensively documented in a report by Griffin, Flanders and Titterington (1970). No known individuals were identified. The 563 associated funerary objects are 28 pottery vessels, 8 clam shells, 22 lots of mussel shells and fragments, 13 Busycon shells dippers and fragments, 9 soil samples, 5 lots of pyrite, 6 lots of red ochre, 2 platform pipes, 2 slate artifacts and fragments, 54 lots of flakes and chert fragments, 40 lots of pottery shards, 1 porcelain fragment, 2 calcined bones, 119 bone awls and fragments, 16 lots of antler fragments, 36 lots of turtle shell carapaces and fragments, 7 bear canines and teeth, 8 animal mandibles and fragments, 33 lots of beaver incisors, 35 projectile points, 3 scrapers, 2 charcoal samples, 6 lots of mica sheets and fragments, 3 hammerstones, 1 lot of copper beads, 5 lots of shell beads, 11 talons, 1 lot of bobcat phalanges, 5 copper awls, 3 copper celts, 3 pearls, 1 lot of wolf claws, 1 carbon sample, 1 skunk skeleton, 1 historic ceramic, 1 lot of hematite, 18 lots of bone pins, 15 biface performs, 1 lot of copper fragments, 3 grinding stones, 4 animal bones, 1 conch shell, 1 celt, 1 drilled bear canine effigy, 1 lot of yellow ochre, 12 lots of unidentified shells and fragments, 1 lot of bird bones, 3 bird beaks, 1 chert drill, 1 unidentified canine, 1 unidentified claw, 2 antler points, and 3 silver brooches.

In 1931, human remains representing a minimum of one individual were removed from Wilcox Park, Kent County, MI, by the Grand Rapids Police Department. The circumstances of the removal are unclear, but the human remains appear to have been inadvertently discovered. In 1931, the human remains and associated funerary objects were donated to the Grand Rapids Public Museum by the Grand Rapids Police Department. No known individual was identified. The two associated funerary objects are a shell gorget and marine shell.

In 1965, human remains representing a minimum of seven individuals were removed from the Esler Site (20KT156), Kent County, MI. The human remains and associated funerary objects were inadvertently discovered during a construction project and subsequently excavated by the Grand Rapids Public Museum. No known individuals were identified. The 67 associated funerary objects are 1 lot of fire cracked rock, 1 lot of angular debris, 1 awl, 1 lot of flakes, 1 ground stone, 1 lot of projectile points, 1 lot of shell fragments, 1 lot of animal bone, 1 animal bone fragment, 3 lots of historic pottery shards, 13 historic bottles, 3 historic bottle bases, 2 lots of bottle fragments, 3 bottle necks, 1 lot of brick, 14 lots of glass fragments, 1 lot of historic ceramic handles, 1 hinge, 1 historic hook, 2 historic jars, 1 lot of nails, 1 reflector fragment, 9 lots of rim shards, 1 shell, 1 stoneware fragment, and 1 teacup.

In 1956, human remains representing a minimum of one individual were removed from the farm of August Knopf, Montcalm County, MI, by two hunters who observed the remains eroding from a sandy bank. The human remains and associated funerary objects were donated by the landowner, Mr. August Knopf, to the Wright L. Coffinberry chapter of the Michigan Archaeological Society. At an unknown date, Ruth Herrick acquired the human remains and associated funerary objects from the Michigan Archaeological Society. In 1974, Ruth Herrick donated the human remains and associated funerary objects to the museum by bequest. No known individual was identified. The 11 associated funerary objects are 1 lot of woven fiber fragments, 1 lot of shell beads, 1 lot of copper hair pipes, 1 lot of copper hair pipe fragments, 1 lot of bark and wood fragments, 1 lot of organic fiber and sand, 1 lot of wood fragments, 1 lot of sand, 2 lots of sand with bone fragments, and 1 lot of organic blanket fragments.

At an unknown date, human remains representing a minimum of five individuals were removed from an unknown site in Montcalm County, MI. At an unknown date, C.R. Sligh acquired the human remains. In 1893, the human remains were purchased by the museum from C.R. Sligh. No known individuals were identified. No associated funerary objects are present.

At an unknown date, a human remain representing a minimum of one individual was removed from an unknown site, possibly in Montcalm County, MI. At an unknown date, C.R. Sligh acquired the human remain. In 1893, the human remain was purchased by the museum from C.R. Sligh. The human remain is described as “Skull of Moundbuilder” in early museum records and was given the accession number 30185. While there is no documented provenience in early museum records, museum documentation indicates that the human remains described above from Montcalm County, MI, were acquired from the donor in the same accession. The collecting history of the donor and the accession of the skull together with the accession of human remains from Montcalm County indicate that, more likely than not, the skull was removed from Montcalm County, MI. No known individual was identified. No associated funerary objects are present.

In 1942, human remains representing a minimum of two individuals were removed from the Lamont area, Ottawa County, MI, by Mr. A.E. Bonner. Museum documentation indicates the remains were inadvertently discovered during excavation of a basement. In 1942, Mr. A.E. Bonner gifted the remains to Ruth Herrick. In 1974, the museum acquired the human remains from Ruth Herrick through a bequest. No known individuals were identified. No associated funerary objects are present.

In 1969, human remains representing a minimum of one individual were removed from a burial at the Paggeot Site (20OT89), Ottawa County, MI, by the Grand Rapids Public Museum and Grand Valley State University. The Grand Rapids Public Museum and Grand Valley State University collaboratively excavated the burial, which was eroding from the banks of the Grand River. No known individual was identified. The 13 associated funerary objects are 1 lot of flint angular debris, 5 lots of prehistoric body pottery shards, 1 pottery vessel, 1 pottery vessel cast, 1 lot of prehistoric pottery fragments, 1 lot of prehistoric rim fragments, 1 lot of sand, and 2 lots of shell.

In 1879, human remains representing a minimum of seven individuals were removed from Scott Mounds (20SJ2), St. Joseph County, MI. At an unknown date, E.H. Crane acquired the human remains and artifacts. In 1917, the museum purchased the human remains and associated funerary objects from the E.H. Crane estate. No known individuals were identified. The 20 associated funerary objects are 1 lot of copper nuggets, 1 spear point, 2 bone fragments, 2 drills, 2 flakes, 3 knives, 2 scrapers, 1 lot of mica, 1 shell, 1 lot of turtle shell fragments, 1 pottery shard, 2 lots of red ochre, and 1 lot of fabric.

In 1879, human remains representing a minimum of two individuals were removed from Marantette Mounds (20SJ1), St. Joseph County, MI. At an unknown date, E.H. Crane acquired the human remains and artifacts. In 1917, the museum purchased the human remains and associated funerary objects from the E.H. Crane estate. No known individuals were identified. The 11 associated funerary objects are 1 scraper, 1 lot of mica fragments, 1 projectile point, 1 spear point, 3 awl fragments, 1 animal canine, 1 drilled bear tooth, and 2 animal mandibles.

At an unknown date, human remains representing a minimum of one individual were removed from an unknown site in Wayne County, MI. Museum documentation indicates the remains came from an “Indian Village site” in Wayne County. At an unknown date, Ruth Herrick acquired the human remains. In 1974, the museum acquired the human remains from Ruth Herrick through a bequest. No known individual was identified. No associated funerary objects are present.

Officials of the Public Museum of West Michigan have determined that, pursuant to 25 U.S.C. 3001(9), the human remains described above represent the physical remains of 104 individuals of Native American ancestry. Officials of the Public Museum of West Michigan have determined that, pursuant to 25 U.S.C. 3001(3)(A), the 796 items described above are reasonably believed to have been placed with or near individual human remains at the time of death or later as part of a death rite or ceremony and are believed, by a preponderance of the evidence, to have been removed from a specific burial site of a Native American individual. Lastly, officials of the Public Museum of West Michigan have determined that, pursuant to 25 U.S.C. 3001(2), a relationship of shared group identity cannot reasonably be traced between the Native American human remains and associated funerary objects and any present-day Indian tribe.

The Native American Graves Protection and Repatriation Review Committee (Review Committee) is responsible for recommending specific actions for disposition of culturally unidentifiable human remains. On July 29, 2009, the Public Museum of West Michigan requested that the Review Committee recommend disposition of the culturally unidentifiable human remains and associated funerary objects to the Bay Mills Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Pokagon Band of Potawatomi Indians, Michigan and Indiana; Saginaw Chippewa Indian Tribe of Michigan; Sac & Fox Nation, Oklahoma; and Sault Ste. Marie Tribe of Chippewa Indians of Michigan, as well as the Grand River Band of Ottawa Indians, a non-federally recognized tribe, because the human remains and associated funerary objects were found within their aboriginal territory. The Review Committee considered the proposal at its October 30-31, 2009, meeting and recommended disposition of the human remains and associated funerary objects to the Bay Mills Indian Community, Michigan; Grand River Band of Ottawa Indians, a non-federally recognized Indian group; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Pokagon Band of Potawatomi Indians, Michigan and Indiana; Saginaw Chippewa Indian Tribe of Michigan; Sac & Fox Nation, Oklahoma; and Sault Ste. Marie Tribe of Chippewa Indians of Michigan.

The Secretary of the Interior concurred with the Review Committee's recommendation. A March 25, 2010, letter from the Designated Federal Official, writing on behalf of the Secretary of the Interior, transmitted the authorization for the museum to effect disposition of the physical remains of the culturally unidentifiable individuals to the Indian tribes listed above contingent on the publication of a Notice of Inventory Completion in the Federal Register. This notice fulfills that requirement. In the same letter, the Secretary recommended the transfer of the associated funerary objects to the Indian tribes listed above to the extent allowed by Federal, state, or local law.

Representatives of any other Indian tribe that wishes to claim ownership or control of the human remains and associated funerary objects should contact Marilyn Merdzinski, Director of Collections and Preservation, Public Museum, 272 Pearl St. NW, Grand Rapids, MI 49504, telephone (616) 929-1801, before July 28, 2010. Disposition of the human remains and associated funerary objects to the Bay Mills Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Pokagon Band of Potawatomi Indians, Michigan and Indiana; Saginaw Chippewa Indian Tribe of Michigan; Sac & Fox Nation, Oklahoma; Sault Ste. Marie Tribe of Chippewa Indians of Michigan; and the Grand River Band of Ottawa Indians, a non-federally recognized Indian group, may proceed after that date if no additional claimants come forward.

The Public Museum of West Michigan is responsible for notifying the Bay Mills Indian Community, Michigan; Citizen Potawatomi Nation, Oklahoma; Forest County Potawatomi Community, Wisconsin; Grand Traverse Band of Ottawa and Chippewa Indians, Michigan; Hannahville Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Nottawaseppi Huron Band of the Potawatomi, Michigan; Ottawa Tribe of Oklahoma; Pokagon Band of Potawatomi Indians, Michigan and Indiana; Prairie Band of Potawatomi Nation, Kansas; Red Lake Band of Chippewa Indians, Minnesota; Saginaw Chippewa Indian Tribe of Michigan; Sac & Fox Nation, Oklahoma; Sault Ste. Marie Tribe of Chippewa Indians of Michigan; and the following non-federally recognized Indian groups: Grand River Band of Ottawa Indians and the Burt Lake Band of Ottawa & Chippewa, that this notice has been published.

Dated: June 22, 2010
Sherry Hutt,
Manager, National NAGPRA Program.

[FR Doc. 2010-15576 Filed 6-25-10; 8:45 am]

BILLING CODE 4312-50-S